DEPARTMENT OF ENERGY

Federal Energy Regulatory Commission

Combined Notice of Filings #1

Take notice that the Commission received the following exempt wholesale generator filings:

Docket Numbers: EG25-364-000.

Applicants: OSCII Gildersleeve, LLC.

Description: OSCII Gildersleeve, LLC submits Notice of Self-Certification of Exempt Wholesale Generator Status.

Filed Date: 6/30/25.

Accession Number: 20250630-5107.

Comment Date: 5 p.m. ET 7/21/25.

Docket Numbers: EG25-365-000.

Applicants: West Boylston Energy Storage I LLC.

Description: West Boylston Energy Storage I LLC submits Notice of Self-Certification of Exempt Wholesale Generator Status.

Filed Date: 6/30/25.

Accession Number: 20250630-5112.

Comment Date: 5 p.m. ET 7/21/25.

Take notice that the Commission received the following electric rate filings:

Docket Numbers: ER10-1821-024.

Applicants: Goshen Phase II LLC.

Description: Triennial Market Power Analysis for Northwest Region of Goshen Phase II LLC.

Filed Date: 6/27/25.

Accession Number: 20250627-5294.

Comment Date: 5 p.m. ET 8/26/25.

Docket Numbers: ER10-2854-006.

Applicants: ConocoPhillips Company.

Description: Triennial Market Power Analysis for Southwest Region of ConocoPhillips Company.

Filed Date: 6/27/25.

Accession Number: 20250627-5291.

Comment Date: 5 p.m. ET 8/26/25.

Docket Numbers: ER10-2886-031; ER13-1101-028; ER13-1541-027; ER14-661-018; ER14-787-021; ER15-54-012; ER15-55-012; ER15-1475-013; ER15-2593-012; ER16-452-011; ER16-705-009; ER16-706-009; ER16-1154-010; ER16-1882-005; ER17-252-006; ER17-2508-004; ER21-1988-004; ER21-1989-004.

Applicants: SP Tranquillity Solar Storage, LLC, SP Garland Solar Storage, LLC, RE Gaskell West 1 LLC, 2016 ESA Project Company, LLC, Boulder Solar Power, LLC, Parrey, LLC, RE Garland A LLC, RE Garland LLC, RE Tranquillity LLC, Desert Stateline LLC, North Star Solar, LLC, Blackwell Solar, LLC, Lost Hills Solar, LLC, Macho Springs Solar, LLC, SG2 Imperial Valley LLC, Campo Verde Solar, LLC, Spectrum Nevada Solar, LLC, SP Cimarron I, LLC.

Description: Triennial Market Power Analysis for Southwest Region of SP Cimarron I, LLC, et al.

Filed Date: 6/27/25.

Accession Number: 20250627-5298.

Comment Date: 5 p.m. ET 8/26/25.

Docket Numbers: ER12-2178-019; ER10-2178-046; ER10-2192-046; ER13-1536-030.

Applicants: Exelon Generation Company, LLC, Constellation Energy Commodities Group Maine, LLC, Constellation NewEnergy, Inc., AV Solar Ranch 1, LLC.

Description: Triennial Market Power Analysis for Southwest Region of AV Solar Ranch 1, LLC, et al.

Filed Date: 6/27/25.

Accession Number: 20250627-5299.

Comment Date: 5 p.m. ET 8/26/25.

Docket Numbers: ER13-445-012; ER11-4060-012; ER11-4061-012; ER14-2823-010; ER15-1170-008; ER15-1171-008; ER15-1172-008; ER15-1173-008; ER20-2125-003.

Applicants: WGP Redwood Holdings, LLC, McKittrick Limited, Live Oak Limited, Chalk Cliff Limited, Bear Mountain Limited, Double C Generation Limited Partnership, Kern Front Limited, High Sierra Limited, Badger Creek Limited.

Description: Triennial Market Power Analysis for Southwest Region of Badger Creek Limited, et al.

Filed Date: 6/27/25.

Accession Number: 20250627-5300.

Comment Date: 5 p.m. ET 8/26/25.

Docket Numbers: ER13-1430-015; ER13-1561-014; ER21-965-004; ER21-1259-004.

Applicants: Coso Battery Storage, LLC, Ventura Energy Storage, LLC, Centinela Solar Energy, LLC, Arlington Valley Solar Energy II, LLC.

Description: Triennial Updated Market Power Analysis for Southwest Region of Arlington Valley Solar Energy II, LLC, et al.

Filed Date: 6/27/25.

Accession Number: 20250627-5303.

Comment Date: 5 p.m. ET 8/26/25.

Docket Numbers: ER17-1607-007; ER17-1608-007; ER20-27-007.

Applicants: Wright Solar Park LLC, Sunray Energy 3 LLC, Sunray Energy 2, LLC.

Description: Triennial Market Power Analysis for Southwest Region of Sunray Energy 2, LLC, et al.

Filed Date: 6/27/25.

Accession Number: 20250627-5290.

Comment Date: 5 p.m. ET 8/26/25.

Docket Numbers: ER23-1236-001.

Applicants: SR McNeal, LLC.

Description: Updated Triennial Market Power Analysis for Southwest Region of SR McNeal, LLC.

Filed Date: 6/27/25.

Accession Number: 20250627-5302.

Comment Date: 5 p.m. ET 8/26/25.

Docket Numbers: ER25-1868-001.

Applicants: Portland General Electric Company.

Description: Tariff Amendment: PGE Response to Deficiency Letter OATT Filing for EDAM to be effective 6/2/2025.

Filed Date: 6/30/25.

Accession Number: 20250630-5145.

Comment Date: 5 p.m. ET 7/21/25.

Docket Numbers: ER25-2017-000; ER25-2018-000.

Applicants: Roadrunner Battery Storage LLC, Roadrunner Solar LLC.

Description: Second Supplement to 04/23/2025, Roadrunner Solar LLC, et al., tariff filing.

Filed Date: 6/27/25.

Accession Number: 20250627-5288.

Comment Date: 5 p.m. ET 7/7/25.

Docket Numbers: ER25-2246-000.

Applicants: Camchino Leasing, LLC.

Description: Supplement to 05/16/2025, Camchino Leasing, LLC tariff filing.

Filed Date: 6/26/25.

Accession Number: 20250626-5192.

Comment Date: 5 p.m. ET 7/7/25.

Docket Numbers: ER25-2694-000.

Applicants: Kelso Solar LLC.

Description: § 205(d) Rate Filing: Kelso Solar LLC submits tariff filing per 35.1: Kelso Solar LLC MBR Tariff to be effective 8/11/2025.

Filed Date: 6/27/25.

Accession Number: 20250627-5206.

Comment Date: 5 p.m. ET 7/18/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: June 30, 2025.
Carlos D. Clay,
Deputy Secretary.

[FR Doc. 2025-12465 Filed 7-2-25; 8:45 am]

BILLING CODE 6717-01-P